ENVIRONMENTAL PROTECTION AGENCY

[FRL-7783-5]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at: http://www.epa.gov/compliance/assistance/applicability. The document may be located by date, author, subpart, or subject search. For questions about the ADI or this notice, contact Maria Malave at EPA by phone at: (202) 564-7027, or by email at: malave.maria@epa.gov. For technical questions about the individual applicability determinations or monitoring decisions, refer to the contact person identified in the individual documents, or in the absence of a contact person, refer to the author of the document.

SUPPLEMENTARY INFORMATION: Background: The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the part 63 NESHAP and section 111(d) of the Clean and Air Act regulations contain no specific regulatory provision that sources may request applicability determinations, EPA does respond to written inquiries regarding applicability for the part 63 and section 111(d) programs. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS and NESHAP. The letters and memoranda may be searched by date, office of issuance, subpart, citation, control number or by string word searches.

Today's notice comprises a summary of 33 such documents added to the ADI on April 2004. The subject, author, recipient, date and header of each letter and memorandum are listed in this notice, as well as a brief abstract of the letter or memorandum. Complete copies of these documents may be obtained from the ADI through the OECA Web site at: http://www.epa.gov/compliance/assistance/applicability.

Summary of Headers and Abstracts

The following table identifies the database control number for each document posted on the ADI database system on (date); the applicable category; the subpart(s) of 40 CFR part 60, 61, or 63 (as applicable) covered by the document; and the title of the document, which provides a brief description of the subject matter. We have also included an abstract of each document identified with its control number after the table. These abstracts are provided solely to alert the public to possible items of interest and are not intended as substitutes for the full text of the documents.

Control | Category | Subpart | Title
A040001 | Asbestos | M | Application of Solvent to Floor Mastic.
A040002 | Asbestos | M | Application of Solvent to Floor Mastic.
C040001 | CFC | F | Safe Disposal of Appliances.
M040001 | MACT | T | Switching to non-HAP Solvent.
M040002 | MACT | T | Modifications to Alt. Monitoring Method.
M040003 | MACT | RRR | Alt. Monitoring Based on Scrap Inspection Program.
M040004 | MACT | EEE | Alt. Monitoring for Automatic Waste Feed Cutoff.
M040005 | MACT | O | Alt. Monitoring for Aeration Room Vent.
M040006 | MACT | RRR | Test Waiver for Secondary Aluminum Ring Crusher.
M040007 | MACT | GGG, U | Basing Parametric Monitoring Levels on Old Test Data.
M040008 | MACT | MMM | Compliance & Parameters Based on Old Emission Test Data.
M040013 | MACT | GGG | Off-site Interim Wastewater Storage Facilities.
M040012 | MACT | GGG | Off-site Interim Wastewater Storage Facilities.
M040009 | MACT | RRR | Alt. Test Duration—Secondary Aluminum Scrap Shredder.
M040010 | MACT | NNNN | Non-household Floor Cleaning and Vacuuming Equipment.
M040011 | MACT | HH | Leak Detection on Ancillary Equipment for Alt. Monitoring.
M040014 | MACT | NNN | Binder Switch from Formaldehyde to Acrylic.
M040015 | MACT | YYYY | Stationary Gas Turbines.
0400001 | NSPS | GG | Alt. Nitrogen & Sulfur Monitoring\Use of CEMS.
0400002 | NSPS | Dc | Alt. Fuel Usage Recordkeeping & Reporting.
0400003 | NSPS | Db,Dc | Boiler Derate.
0400004 | NSPS | Db | Alt. Opacity Monitoring.
0400005 | NSPS | QQQ | Modification\Reconstruction of Aggregate Facilities.
0400006 | NSPS | Db | Alt. Opacity Monitoring.
0400007 | NSPS | Dc | Carbon Burn-Out Unit.
0400008 | NSPS | Db | Monitoring Requirements.
0400011 | NSPS | OOO | Non-metallic Mineral Production Line.
0400012 | NSPS | GG | Custom Fuel Sulfur Monitoring Schedule.
0400013 | NSPS | GG | Alt. Measurement of SO2.
0400014 | NSPS | GG | Custom Fuel Sulfur Monitoring Schedule.
0400015 | NSPS | Ka, Kb | Modification of Storage Tanks.
0400016 | NSPS | OOO, UUU | Applicability to Lime Plants.
0400017 | NSPS | UUU | Sand Reclamation at Foundries.
0400018 | NSPS | OOO | Adding Grinding Circuit to Stand-Alone Screening Operation.

Abstract for [M040001]

Q: Will the Associated Spring facility remain subject to 40 CFR part 63, subpart T, if it permanently stops using hazardous air pollutant (HAP) solvent and switches to a non-HAP solvent?

A: No. The Associated Spring facility no longer uses one of the listed solvents. Based on its commitment to continue in that mode for the forseeable future, EPA has determined that the facility is no longer subject to the halogenated solvent National Emission Standards for Hazardous Air Pollutants.

Abstract for [M040002]

Q: Will EPA approve revisions to an alternative monitoring method under 40 CFR 63.8(f) for complex continuous web cleaning machines subject to New Source Performance Standards (NSPS) subpart T at the Alcoa Mill Products' Davenport Works facility?

A: Yes. EPA will approve an alternative monitoring method to replace the specific monitoring requirements previously approved under NSPS subpart T.

Abstract for [M040003]

Q: Will EPA approve an alternative monitoring program for the Alcoa, Lafayette, Indiana secondary aluminum smelter subject to the Maximum Achievable Control Technology requirements in 40 CFR part 63, subpart RRR?

A: Yes. EPA will approve the alternative monitoring program because the scrap inspection program includes, among other requirements, that the facility make it clear to suppliers that it will not accept painted dealer extrusion scrap.

Abstract for [M040004]

Q: Will EPA approve alternative monitoring for the 32 rotary kiln incinerators at the Dow Chemical, Midland, Michigan facility? 40 CFR 63.1206(c)(3) requires that a hazardous waste incinerator have an automatic waste feed cutoff (AWFCO) that immediately and automatically cuts off hazardous waste feed under certain conditions. Dow requests that EPA allow continued feed of certain waste streams while the process information management system (PIMS), part of the AWFCO, is down. 40 CFR 63.1209(g)(1) allows EPA to approve alternative monitoring.

A: Yes. EPA approves the alternative monitoring request. When the PIMS is down, hourly rolling average concentrations will be interrupted. However, the continuous monitoring systems will read and electronically record instantaneous real time data of each monitored parameter, and Dow Chemical will base compliance on this data. Dow can continue to burn wastes as long as the instantaneous operating conditions do not exceed the operating parameters established under the Maximum Achievable Control Technology (MACT), and must stop feeding containers or lab packs and new liquids. In the event of an AWFCO while the PIMS is down, the kiln will be fed only auxiliary fuel until the MACT parameters are within range and the PIMS has resumed operation. Triggering the AWFCO on instantaneous data at the MACT limits is more conservative than the hourly and the 12-hour rolling average limits the MACT allows. The PIMS does not control the operation of the kiln nor does it directly impact emissions. Continued operation with limited feeds will minimize any excess emissions from complete shutoff of the feed.

Abstract for [M040005]

Q: Will EPA approve the alternative monitoring request at the Cook, Incorporated sterilization facility in Ellettsville, Indiana for the dry bed reactors on the aeration room vent to comply with 40 CFR part 63, subpart O?

A: Yes. EPA approves the alternative monitoring request. Cook proposes to monitor the aeration room vents control equipment using a gas chromatograph (GC), and will conduct bag sampling at the dry bed system outlet on a weekly basis, measure the ethylene oxide concentration in the sample using the GC, and record the results. The facility will comply with the 1 ppmv standard at 40 CFR 63.362(d). Cook's request includes a description of the dry bed reactors, satisfactory performance specifications and quality assurance procedures for the GC, and complete performance test results, and the test results show compliance with the standard.

Abstract for [M040006]

Q: May the ring crusher at the Wabash Alloys secondary aluminum facility in Wabash, Indiana obtain a waiver of the performance testing required for scrap shredders to demonstrate compliance with the Maximum Achievable Control Technology particulate matter (PM) emission standard of 40 CFR 63.1505(b)(1)?

A: Yes. The facility has demonstrated that it is technically infeasible to use Method 5 to measure emissions. Method 9 visible emissions readings were taken for three runs, and each run was continuous for at least one hour. Visible emissions were 0 percent opacity at the transition from the crusher to the conveyor throughout all three runs. The opacity standard for scrap shredders with air pollution control devices, 40 CFR 63.1505(b)(2), is 10 percent. This facility's scrap shredder is uncontrolled. Since the visible emissions readings showed uncontrolled opacity far below the limit for a controlled source, this provides assurance that the ring crusher is in continuous compliance with the PM standard.

Abstract for [M040007]

Q: May the Dow Chemical Midland, Michigan facility use data from an April 15, 1988, performance test to establish alternative parametric monitoring levels for monitoring compliance with the pharmaceutical National Emission Standards for Hazardous Air Pollutants and the Group I polymer and resins NESHAP, 40 CFR part 63, subparts GGG and U?

A: No. Dow Chemical must conduct a performance test that represents current operation, and resubmit a request to establish alternative parametric levels.

Abstract for [M040008]

Q1: May the Dow Chemical facility in Midland, Michigan use data from an April 15, 1988 performance test to demonstrate compliance with the pesticide active ingredient National Emission Standards for Hazardous Air Pollutants (NESHAP), 40 CFR part 63, subpart MMM?

A1: No. Dow Chemical must conduct a performance test that represents current operation.

Q2: May the facility use data from a pharmaceutical Maximum Achievable Control Technology (MACT) performance test to demonstrate compliance with the pesticides NESHAP?

A2: No. Dow Chemical must conduct a performance test that represents current operation.

Q3: May the facility use the Title V renewable operating permit flexible group requirements as the pesticides MACT control device limits?

A3: No. Dow Chemical must conduct a performance test that represents current operation and resubmit a request to establish parametric levels. The proposed Method 25A may be insufficient to capture emissions from chlorinated, oxygenated and nitrogenated compounds. Dow must perform simultaneous Method 25 and Method 25A tests. Testing must be at maximum (worst case) operating conditions, including steady and non-steady state conditions.

Abstract for [M040009]

Q: May the Wabash Alloys secondary aluminum facility in Cleveland, Ohio demonstrate compliance under 40 CFR part 63, subpart RRR by conducting a test consisting of three runs, each with a duration of one hour, in place of the required three three-hour test runs?

A: Yes. The larger processing rate achieved during a one hour run will better represent maximum operations and emissions. This approval is granted provided that an adequate sample is obtained during a one hour run, and it applies only to continuous processes.

Abstract for [M040010]

Q: Is the Tennant facility in Minneapolis, Minnesota, which makes non-household floor cleaning and vacuuming equipment for the service industry, subject to the large appliance surface coating Maximum Achievable Control Technology (MACT), 40 CFR part 63, subpart NNNN?

A: Yes. During development of the standard, EPA visited a facility that makes products similar to those made by the Tennant facility. The background document for the proposed standard lists non-household vacuum cleaners and sweepers as examples of a large appliance, and lists the Tennant facility as a potential major source subject to MACT subpart NNNN. The final rule exempts household waxers and polishers that fall under Standard Industrial Classification (SIC) code 3639. However, the non-household products made by Tennant fall under SIC code 3589. There are no statements in the Federal Register or rulemaking record that would lead one to believe that there was an intent to exclude the equipment in Tennant's product line from MACT subpart NNNN.

Abstract for [M040011]

Q: Will EPA approve the alternative monitoring of quarterly visual inspections of equipment in ethylene glycol jacket water service (considered “in VHAP service”) as a substitute for Method 21 under 40 CFR part 63, subpart HH at Chevron's Carter Creek Gas Plant in Evanston, Wyoming?

A: Yes. EPA has determined that quarterly visual inspections of equipment in jacket water service at a gas plant is an acceptable substitute for Method 21.

Abstract for [M040012]

Q: Do the requirements in 40 CFR 63.1256(a)(5) of the pharmaceutical Maximum Achievable Control Technology (MACT), subpart GGG, apply to off-site interim wastewater storage facilities that store but do not treat affected wastewaters, or that are not major sources as defined in section 112(a) of the Clean Air Act?

A: Yes. The language of the regulation and the background documents clarify that the intent is not simply to regulate offsite facilities that manage and treat affected wastewaters, and allow unregulated transfer of wastewaters and residuals from other types of facilities. It is also not the intent of the rule to prohibit such transfer as long as the transferee certifies that it will manage and treat the wastewater in accordance with the rule. These are technical compliance requirements, not threshold applicability issues. As originally promulgated, MACT subpart GGG did not allow off-site treatment of wastewater containing 50 ppmw or more of partially soluble hazardous air pollutants. However, MACT subpart GGG has been amended to allow such transfers, as long as the transferee certifies that the wastewater or residual will be managed and treated in accordance with the rule. While the requirements of MACT subpart GGG apply to owners or operators of pharmaceutical manufacturing operations that are major sources, the requirements of 40 CFR 63.1256(a)(5) apply to any transferee. The transferee must certify in writing to the EPA that the transferee will comply with those requirements. Lacking that certification, the owner or operator of the subject pharmaceutical operation may not transfer the wastewater or residual. By providing the certification, the transferee voluntarily accepts the compliance responsibility in 40 CFR 63.1256(a)(5)(ii) and 63.1256(a)(5)(iv). If the facility decides to accept subject wastewater and residual from an affected source, the request for this applicability determination does not substitute for the required written certification.

Abstract for [M040013]

Q1: Facility A that is subject to the pharmaceutical Maximum Achievable Control Technology, subpart GGG, sends affected wastewater to Facility B that is an off-site, non-treatment certified facility. Facility B intends to send the wastewater to Facility C, another off-site non-treatment facility. Must Facility B ensure that Facility C is certified before sending the wastewater?

A1: Yes. By providing the original certification, Facility B has accepted responsibility for compliance with 40 CFR 63.1256(a)(5)(ii), which does not allow transfer of affected wastewater without a certification. However, if Facility C is under the control of the entity that submitted the certification for Facility B, no new certification is needed because a transferee is bound by the certification no matter which facility it uses.

Q2: Do the certification requirements of 40 CFR 63.1256(a)(5) apply to temporary sites where drums or tankers are stored but never opened or unloaded?

A2: Yes. After the transferee has certified that it will comply, 40 CFR 63.1256(a)(5)(ii) requires that it must do so no matter where it stores the affected wastewater.

Abstract for [M040014]

Q: Is a facility that switches from a formaldehyde binder to an acrylic binder still subject to 40 CFR part 63, subpart NNN?

A: No, the facility no longer meets the definition of a “wool fiberglass manufacturing facility” as defined in 40 CFR 63.1381, and therefore is no longer subject to the standard.

Abstract for [M040015]

Q: Is a turbine at the Wisdom Generating Station near Spencer, Iowa, that commenced construction prior to the proposed date of the Turbine Maximum Achievable Control Technology, subpart YYYY, considered an existing source?

A: Yes, the facility is an existing facility if construction was “commenced”, as defined in 40 CFR 63.2, prior to the date the rule was proposed.

Abstract for [0400001]

Q1: May Reliant Energy's Portland Station facility use a certified continuous emission monitoring system (CEMS) to monitor and record nitrogen oxides (NOX) emissions in lieu of continuous monitoring of a water-to-fuel ratio under New Source Performance Standards (NSPS) subpart GG if it has the following characteristics: It is a simple cycle combustion turbine, with dry low NOX burners with water injection; it is permitted to burn only natural gas or No. 2 fuel oil with a maximum sulfur content not to exceed 0.05% by weight; and it is an Acid Rain affected unit required to monitor and report emissions in accordance with 40 CFR part 75?

A1: Yes. This request is consistent with the EPA guidance memorandum dated March 12, 1993, approving the use of CEMS for NOX as an alternative to monitoring the water to fuel ratio. The facility is required to report excess NOX emissions as required in 40 CFR 60.7.

Q2: May Reliant Energy's Portland Station facility waive the requirement to correct CEMS results to International Standards Organization (ISO) standard day conditions since the permitted NOX limits are considerably more stringent than the applicable NSPS subpart GG limit?

A2: Yes. Because the proposal would ensure compliance with the applicable ISO-corrected NSPS subpart GG standard under reasonably expected ambient conditions, except conditions that might occur with very high ambient temperature, EPA approves this waiver of the requirement to correct CEMS results to ISO standard day conditions on a continuous basis when ambient temperature is no higher than 105 degrees F.

Q3: May the facility waive the nitrogen monitoring requirement of 40 CFR 60.334(b)(2) for natural gas?

A3: Yes. EPA developed a National Policy dated August 14, 1987, that waives the nitrogen monitoring requirement for pipeline quality natural gas.

Q4: May the facility waive the nitrogen monitoring requirement of 40 CFR 60.334(b)(1) for fuel oil?

A4: Yes. The facility may waive the nitrogen monitoring requirement because a certified NOX CEMS is being used to satisfy NOX emissions monitoring requirements.

Q5: May the facility waive the sulfur content monitoring requirements of 40 CFR 60.334(b)(2) for natural gas and in lieu thereof use 40 CFR part 75, Appendix D section 2.3.1.4 “Documentation that a Fuel is Pipeline Natural Gas”?

A5: Yes. The facility may waive the sulfur content monitoring requirements because this request is consistent with the intent of National Policy. However, the facility will be required to report excess emissions under 40 CFR 60.7(c).

Q6: May the facility waive the sulfur content monitoring requirements of 40 CFR 60.334(b)(2) for fuel oil and in lieu thereof use 40 CFR part 75, Appendix D section 2.2 to monitor sulfur content of fuel oil?

A6: Yes. The facility may waive the sulfur content monitoring requirements because the unit in question is permitted to burn only natural gas and No. 2 fuel oil with a maximum sulfur content not to exceed 0.05% by weight.

Abstract for [0400002]

Q: Will EPA allow Conoco Phillips under New Source Performance Standards subpart Dc to maintain fuel usage records on a monthly basis and submit reports on an annual basis for a boiler at its Chatom Gas Treating & Processing facility which uses only natural gas as a fuel?

A: Yes. The alternative recordkeeping and reporting frequencies are acceptable.

Abstract for [0400003]

Q: Will EPA approve a proposal under New Source Performance Standards subpart Db to derate a boiler at North Carolina Baptist Hospital which consists of limiting the combustion air flow by welding a mechanical stop to limit the travel of the inlet valve dampers?

A: No. The proposed derate does not meet the criteria specified in other proposals approved by EPA. In order to be an acceptable derate, a permanent physical change must be made. The proposed method is not considered permanent and could be reversed rather easily.

Abstract for [0400004]

Q: May the U.S. Sugar Corporation facility in Clewiston, Florida use EPA Method 9 instead of a continuous opacity monitoring system for a boiler with an annual capacity factor of ten percent when firing distillate oil under New Source Performance Standards subpart Db?

A: Yes. The proposed alternative monitoring is acceptable and is consistent with alternative opacity monitoring procedures approved for other similar operations with a low annual capacity factor for distillate oil.

Abstract for [0400005]

Q: Should the installation costs of two oily wastewater storage tanks at the Hunt Refining Company in Tuscaloosa, Alabama be considered when determining if a modification or reconstruction of aggregate facilities has occurred under New Source Performance Standards (NSPS) subpart QQQ?

A: No. Since the two storage tanks are not affected facilities under NSPS subpart QQQ, the costs of the tanks are not considered. The tanks, which are subject to the NSPS subpart Kb emission standards at 40 CFR 60.112b, are not oil water separators and are not part of an aggregate facility.

Abstract for [0400006]

Q: May the Lockheed Martin Aeronautics (LM Aero) facility in Marietta, Georgia, use an alternative monitoring procedure based on EPA Reference Method 9 data instead of using a continuous opacity monitoring system while firing distillate oil under New Source Performance Standards (NSPS) subpart Db ?

A: No. The proposed alternative monitoring procedure does not limit the annual capacity factor while firing distillate oil to ten percent or less and, thus, is not acceptable under NSPS subpart Db.

Abstract for [0400007]

Q: A proposed carbon burn-out unit at Progress Energy's Roxboro Plant will be used to burn fly ash and heat feedwater going to electric utility steam generating units. Will the carbon burn-out unit, subject to New Source Performance Standards (NSPS) subpart Dc, be a modification of the existing electric utility steam generating units or a new stand-alone affected facility?

A: The carbon burn-out unit will be a new steam generating unit affected facility subject to NSPS subpart Dc.

Abstract for [0400008]

Q: May an owner/operator of a 40 CFR part 60, subpart Db boiler demonstrate compliance with the New Source Performance Standards (NSPS) standard on a 30-day rolling average during the ozone season, perform a cylinder gas audit during the 45-day period prior to the onset of the ozone season annually, rather than 3 of 4 calendar quarters each year, and perform the relative accuracy test audit (RATA) test once every 5 years, rather than every year?

A: No. Compliance must be demonstrated not only during the ozone season, but for the entire year as long as the boiler is operating. Also, Appendix F of 40 CFR part 60 requires that a RATA be performed on an annual basis, at a minimum, and that cylinder gas audits be conducted in three of four calendar quarters. The NSPS does not provide for alternative schedules for implementing the auditing procedures needed to assure that quality continuous emission monitoring system data is collected.

Abstract for [0400011]

Q: Are the 20-inch discharge elevator 64010, E/W belt 64020, N/S belt 64030, E/W belt 64040, and pellet building supply elevator 64050 in the water softener pellet line at the Morton Salt facility in Rittman, Ohio subject to New Source Performance Standards (NSPS) subpart OOO?

A: Yes. EPA indicated in a clarification of 40 CFR part 60, subpart OOO, published at 62 FR 62953 (November 26, 1997), that all facilities listed in 40 CFR 60.670(a)(1) are subject to NSPS subpart OOO as long as crushing or grinding occurs anywhere at a non-metallic mineral processing plant. Moreover, based on the diagram submitted by Morton Salt, we conclude that the belt conveyors and bucket elevators in question are connected together to the crushers within the pellet system production line.

Abstract for [0400012]

Q: Will EPA approve the use under 40 CFR part 60, subpart GG of custom fuel sulfur monitoring schedules for natural gas-fired turbines which are used to drive natural gas liquids (NGL) pumps at Enterprise Products' Rock Springs and Granger facilities?

A: Yes. EPA approves the use of custom fuel sulfur monitoring schedules for natural gas-fired turbines which are used to drive the NGL pumps.

Abstract for [0400013]

Q: Will EPA waive for Exxon Mobil's Shute Creek Plant the inlet measurements of fuel required by 40 CFR 60.334(b) and allow the outlet sulfur dioxide (SO2) continuous emissions monitoring system (CEM) measurements to be submitted as documentation of compliance with New Source Performance Standards (NSPS) subpart GG?

A: Yes. EPA Region VIII approves the use of the SO2 CEM in lieu of monitoring sulfur and nitrogen content of the fuel required under NSPS subpart GG, because Exxon Mobil proposes monitoring emissions directly and continuously and is required to do so under their permit, and because the permit emission limits are below the emission limitation according to 40 CFR 60.332.

Abstract for [0400014]

Q: Will EPA approve the use under 40 CFR part 60, subpart GG of custom fuel sulfur monitoring schedules for natural gas-fired turbines at eight Williams Field Services facilities?

A: Yes. EPA approves the use of custom fuel sulfur monitoring schedules for natural gas-fired turbines at the eight facilities.

Abstract for [0400015]

Q: Does the addition of a floating roof coupled with a switch in the material stored constitute a modification of a storage tank under 40 CFR 60.14(e)(4)?

A: Yes, if there is an increase in emissions to the atmosphere and the change in storage materials is coupled with a change in vessel design to make the vessel capable of accommodating the switch in storage materials.

Abstract for [0400016]

Q: Is the processing of lime product at the Greer Lime Company in Riverton, West Virginia, subject to 40 CFR part 60, subpart OOO?

A: No, equipment used to process lime product is not subject to New Source Performance Standards (NSPS) subpart OOO.

Q: Is a limestone dryer at the Greer Lime Company in Riverton, West Virginia, subject to 40 CFR part 60, subpart UUU?

A: No, limestone is not a listed mineral in the definition of a “mineral processing plant,” as defined in 40 CFR 60.730, and therefore is not subject to NSPS subpart UUU.

Abstract for [0400017]

Q: Are sand reclamation processes located at foundries subject to 40 CFR part 60, subpart UUU?

A: Yes, calciners or dryers used for sand reclamation at a foundry are subject to NSPS subpart UUU.

Abstract for [0400018]

Q: Would a stand-alone screening operation at the Lyons Evaporation Plant in Lyons, Kansas, become subject to 40 CFR part 60, subpart OOO if a new grinding circuit is added to the plant?

A: Yes, the stand-alone screening operation would become subject to this NSPS with the addition of a grinding circuit because the facility would meet the definition of a “mineral processing plant” as defined in 40 CFR 60.671.

Abstract for [C040001]

Q: There are instances in which small appliances, motor vehicle air conditioning (MVAC), and MVAC-like appliances arrive at a disposal facility and the disposal facility is uncertain whether EPA would consider these appliances subject to the disposal regulations of 40 CFR 82.156(f). Would the following circumstances result in appliances being subject to the safe disposal regulations: (1) Receipt of an appliance in which some components of the refrigerant circuit have been removed; (2) receipt of portions of the refrigerant circuit (e.g., compressor); (3) receipt of an appliance in which the entire refrigerant circuit has been removed; or (4) receipt of an appliance which has previously been through a process in which refrigerant would have been released or recovered?

A: Activities (1) and (2), as described above, would be subject to the safe disposal regulations. Activities (3) and (4), as described above, would not be subject to the safe disposal regulations.

Abstract for [A040001]

Q: Is the use of solvent and a mechanical buffer to remove asbestos-containing floor mastic subject to the Asbestos National Emission Standards for Hazardous Air Pollutants, subpart M?

A: Yes, because the application of solvent followed by the buffer is considered abrading the floor mastic. This situation is distinguishable from the facts in previous determinations cited in the request for a determination.

Abstract for [A040002]

Q: Notwithstanding a prior determination, is the use of solvent and a mechanical buffer to remove asbestos-containing floor mastic subject to the Asbestos National Emission Standards for Hazardous Air Pollutants (NESHAP), subpart M, under the specific circumstances defined in the request for determination?

A: Yes, because the application of solvent followed by the buffer is considered abrading the floor mastic. As defined in 40 CFR 61.141, regulated asbestos-containing material can be a Category I non-friable asbestos-containing material that will be or has been subjected to sanding, grinding, cutting, or abrading. Floor mastic, a Category I material, is potentially subject if it is sanded, ground, cut or abraded. While the use of solvent softens the floor mastic, the buffer and pad abrade the floor mastic, making this subject to the Asbestos NESHAP.

Dated: June 28, 2004.
Michael M. Stahl,
Director, Office of Compliance.

[FR Doc. 04-15533 Filed 7-7-04; 8:45 am]

BILLING CODE 6560-50-P